DEPARTMENT OF STATE

[Public Notice 6516]

Shipping Coordinating Committee; Notice of Meeting

The Shipping Coordinating Committee (SHC) will conduct an open meeting at 11 a.m. on March 18, 2009, in Room 1422 of the United States Coast Guard Headquarters Building, 2100 2nd Street, SW., Washington, DC 20593. The primary purpose of the meeting is to prepare for the ninety-fifth session of the Legal Committee (LEG 95) of the International Maritime Organization (IMO) to be held 30 March-3 April 2009 at the IMO's London Headquarters.

The LEG 95 provisional agenda calls for the Legal Committee to examine the provision of financial security, which includes (1) a progress report on the work of the Joint IMO/ILO Ad Hoc Expert Working Group on Liability and Compensation regarding claims for Death, Personal Injury and Abandonment of Seafarers and (2) follow-up on resolutions adopted by the International Conference on the Removal of Wrecks, 2007: development of a single model compulsory insurance certificate. The Legal Committee will address monitoring the implementation of the HNS Convention and development of a possible draft protocol to the Convention. The following items are also on the LEG 95 agenda: review of proposed amendments to the Committee's guidelines on work methods; the guidelines on fair treatment of seafarers in the event of a maritime accident; matters arising from the one hundred and first regular session of the Council; and election of officers. Finally, the Legal Committee will review technical cooperation activities related to maritime legislation and the status of Conventions and other treaty instruments adopted as a result of the work of the Legal Committee, and will allot time to address any other issues that may arise on the Committee's work program.

Members of the public are invited to attend the SHC meeting up to the seating capacity of the room. To facilitate the building security process, those who plan to attend should call or send an e-mail two days before the meeting. Upon request, participating by phone may be an option. For further information please contact Captain Charles Michel or Lieutenant Amber Ward, at U.S. Coast Guard, Office of Maritime and International Law (CG-0941), 2100 Second Street, SW., Washington, DC 20593-0001; e-mail: Amber.S.Ward@uscg.mil; telephone: (202) 372-3794; or fax: (202) 372-3972.

Dated: February 25, 2009.
Mark Skolnicki,
Executive Secretary, Shipping Coordinating Committee, Department of State.

[FR Doc. E9-4601 Filed 3-3-09; 8:45 am]

BILLING CODE 4710-07-P